NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 22, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of the Army, Agency-wide (N1-AU-03-19, 7 items, 4 temporary items). Counterdrug support program records accumulated in offices responsible for providing input to the program. Included are such records as input to Governors' state plans, copies of approved plans, correspondence, and records relating to personnel matters. Also included are electronic copies of documents created using electronic mail and word processing. Proposed for permanent retention are recordkeeping copies of files relating to counterdrug planning and operations accumulated in the offices having primary responsibility for administering the counterdrug support program.

2. Department of Health and Human Services, National Institutes of Health (N1-443-03-1, 4 items, 4 temporary items). Paper and electronic records relating to funded and unfunded grant awards, including applications, review actions, notices, reports, financial records, closeout documents, and data used for tracking purposes. Also included are electronic copies of records created using electronic mail and word processing. Paper versions of these records were previously approved for disposal.

3. Department of Justice, Professional Responsibility Advisory Office (N1-60-04-1, 3 items, 3 temporary items). Case files relating to requests from attorneys for advice regarding matters of professional responsibility. Included are such records as attorney notes, inquiry summary sheets, assignment sheets, and research notes. Also included are electronic copies of records created using electronic mail and word processing.

4. Department of Justice, Executive Office for U.S. Trustees (N1-60-04-2, 3 items, 3 temporary items). Oversight files used to monitor and evaluate the performance of local U.S. Trustees. Included are such records as performance reviews, budgets, and monthly reports. Also included are electronic copies of records created using electronic mail and word processing.

5. Department of Justice, Bureau of Alcohol, Tobacco, Firearms, and Explosives (N1-436-03-2, 6 items, 6 temporary items). Inputs, outputs, system documentation, and master files associated with the Consolidated Gang Database System, an electronic system which is used to track gang members, gang-related vehicles and weapons, and gang activity. Also included are electronic copies of documents created using electronic mail and word processing.

6. Department of Labor, Bureau of Labor Statistics (N1-257-04-1, 10 items, 10 temporary items). Records relating to surveys, including such files as textual and electronic questionnaires, electronic spreadsheets and databases containing survey results, and administrative records. Also included are electronic copies of records created using electronic mail and word processing.

7. Department of the Treasury, U.S. Mint (N1-104-03-13, 4 items, 4 temporary items). Inputs, outputs, master files, and system documentation associated with the Marketing and Customer Information Clearinghouse, an electronic system which contains transactional data on Mint customers for marketing purposes.

8. Department of the Treasury, U.S. Mint (N1-104-03-07, 4 items, 4 temporary items). Inputs, outputs, master files, and system documentation associated with the Unemployment Compensation Processing System, an electronic system which is used to process unemployment compensation claims. Also included are electronic copies of records created using electronic mail and word processing.

9. Environmental Protection Agency, Office of Environmental Information (N1-412-03-16, 3 items, 3 temporary items). Software programs, master files, and system documentation associated with the Facility Registry System, an electronic system which contains a list of identification numbers that have been assigned to Federal and non-Federal facilities subject to environmental regulations or of environmental interest, along with addresses and names of these facilities.

10. Federal Election Commission, Office of Alternative Dispute Resolution (N1-339-03-2, 4 items, 3 temporary items). Copies of records relating to negotiated and mediated settlements, including electronic copies of records created using electronic mail and word processing. Recordkeeping copies of these files are proposed for permanent retention.

11. National Aeronautics and Space Administration, Columbia Accident Investigation Board (N1-255-04-1, 16 items, 7 temporary items). Paper copies of meeting minutes, presentations, and public mail that have been scanned, financial records, working files and notes relating to the preparation of the Board's final report and its related appendixes, and records relating to the Board's Web site, including web content records. Also included are electronic copies of records created using electronic mail and word processing. Proposed for permanent retention are such records as electronic recordkeeping copies of approximately 80,000 documents that were gathered during the accident investigation, a database containing minutes of Board meetings, audiovisual and paper records that document the Board's Congressional and public liaison activities, privileged witness testimonies, and the Board's final report and related appendixes. Also proposed for permanent retention are electronic mail messages that were received by the Board from the public as well as scanned images of public comments that were submitted in paper form.

12. National Archives and Records Administration, Agency-wide (N1-64-04-2, 7 items, 6 temporary items). Special project records relating to the Electronic Records Management Initiative. Included are records relating to developing guidance and procedures for agencies to use in electronic records management, project management files, and administrative records. Also included are electronic copies of records created using electronic mail and word processing. Proposed for permanent retention are recordkeeping copies of files accumulated by the agency as Government-wide managing partner in efforts to provide tools needed by Federal agencies to manage their electronic records.

Dated: November 28, 2003.
Michael J. Kurtz,
Assistant Archivist for Record Services—Washington, DC.

[FR Doc. 03-30342 Filed 12-5-03; 8:45 am]

BILLING CODE 7515-01-P